DEPARTMENT OF JUSTICE

Antitrust Division

Notice Pursuant to the National Cooperative Research and Production Act of 1993—MLCommons Association

Notice is hereby given that, on May 10, 2022, pursuant to Section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, STMicroelectronics International NV, Geneva, SWITZERLAND; Neural Magic, Inc., Somerville, MA; HighFens Inc., Chelmsford, MA; Ryan Hileman (individual member), San Francisco, CA; Moffett AI Technology Shenzhen Co., Ltd., Los Altos, CA; Aamir Shafi (individual member), Columbus, OH; Institute of Automation, Chinese Academy of Sciences, Beijing, PEOPLE'S REPUBLIC OF CHINA; MosaicML, San Francisco, CA; Tri Dao (individual member), Mountain View, CA; and xFusion Digital Technologies Co., Ltd., Zhengzhou, PEOPLE'S REPUBLIC OF CHINA have joined as parties to this venture.

No other changes have been made in either the membership or planned activity of the research project. Membership in this group research project remains open and MLCommons intends to file additional written notifications disclosing all changes in membership.

On September 15, 2020, MLCommons filed its original notification pursuant to Section 6(a) of the Act. The Department of Justice published a notice in the Federal Register pursuant to Section 6(b) of the Act on September 29, 2020 (85 FR 61032).

The last notification was filed with the Department on February 25, 2022. A notice was published in the Federal Register pursuant to Section 6(b) of the Act on March 15, 2022 (87 FR 14575).

Suzanne Morris,
Chief, Premerger and Division Statistics, Antitrust Division.

[FR Doc. 2022-12600 Filed 6-10-22; 8:45 am]

BILLING CODE 4410-11-P